DEPARTMENT OF HOMELAND SECURITY

Coast Guard

46 CFR Part 16

Chemical Drug Testing

CFR Correction

In Title 46 of the Code of Federal Regulations, Parts 1 to 40, revised as of October 1, 2019, on page 321, in § 16.113, paragraph (a), second sentence, remove the terms “documented and licensed” and add the term “credentialed” in their place.

[FR Doc. 2020-21805 Filed 9-30-20; 8:45 am]

BILLING CODE 1301-00-D